DEPARTMENT OF DEFENSE

Defense Acquisition Regulations System

[Docket Number DARS-2023-0011; OMB Control Number 0704-0232]

Information Collection Requirement; Defense Federal Acquisition Regulation Supplement, Contract Pricing

AGENCY: Defense Acquisition Regulations System, Department of Defense (DoD).

ACTION: Notice.

SUMMARY: The Defense Acquisition Regulations System has submitted to OMB for clearance the following proposal for collection of information under the provisions of the Paperwork Reduction Act.

DATES: Consideration will be given to all comments received by July 24, 2023.

ADDRESSES: Written comments and recommendations for the proposed information collection should be sent within 30 days of publication of this notice to https://www.reginfo.gov/public/do/PRAMain. Find this particular information collection by selecting “Currently under 30-day Review—Open for Public Comments” or by using the search function.

You may also submit comments, identified by docket number and title, by the following method: Federal eRulemaking Portal: https://www.regulations.gov. Follow the instructions for submitting comments.

FOR FURTHER INFORMATION CONTACT: Angela Duncan, 571-372-7574, or whs.mc-alex.esd.mbx.dd-dod-information-collections@mail.mil.

SUPPLEMENTARY INFORMATION:

Title and OMB Number: Defense Federal Acquisition Regulation Supplement (DFARS) Subpart 215.4, Contract Pricing, and related clause at DFARS 252.215; OMB Control Number 0704-0232.

Affected Public: Businesses or other for-profit and not-for-profit institutions.

Respondent's Obligation: Required to obtain or retain benefits.

Frequency: On occasion.

Number of Respondents: 302.

Responses per Respondent: Approximately 1.4.

Annual Responses: 427.

Average Burden per Response: Approximately 40.7.

Annual Burden Hours: 17,400.

Needs and Uses: The clause at DFARS 252.215-7002, Cost Estimating System Requirements, requires that certain large business contractors—

• Establish an acceptable cost estimating system and disclose the estimating system to the administrative contracting officer in writing;

• Maintain the estimating system and disclose significant changes in the system to the administrative contracting officer on a timely basis; and

• Respond in writing to written reports from the Government that identify deficiencies in the estimating system.

DoD contracting officers use this information to determine if the contractor has an adequate system for generating cost estimates, which forecasts costs based on appropriate source information available at the time, and has the ability to monitor the correction of significant deficiencies. The need for information collection decreases as contractor estimating systems improve and gain contracting officer approval.

DoD Clearance Officer: Ms. Angela Duncan. Requests for copies of the information collection proposal should be sent to Ms. Duncan at whs.mc-alex.esd.mbx.dd-dod-information-collections@mail.mil.

Jennifer D. Johnson,
Editor/Publisher, Defense Acquisition Regulations System.

[FR Doc. 2023-13398 Filed 6-22-23; 8:45 am]

BILLING CODE 5001-06-P